DEPARTMENT OF AGRICULTURE

Forest Service

Unified Federal Policy for Ensuring a Watershed Approach to Federal Land and Resource Management

AGENCY: Forest Service, USDA.

ACTION: Proposed policy; meetings.

SUMMARY: Elsewhere in this part of today's Federal Register, the Departments of Agriculture and the Interior have published a proposed unified Federal policy for ensuring a watershed approach to Federal land and resource management. The Departments of Agriculture and the Interior have scheduled four public meetings and four Tribal meetings to present information on the proposed policy.

DATES: The meetings are scheduled on March 7, 9, 14 and 16. Written comments must be received by April 24, 2000.

ADDRESSES: The meetings will be held at the locations and times listed in the table under SUPPLEMENTARY INFORMATION. You may send or hand deliver written comments to: USDA-Forest Service, Content Analysis Enterprise Team, Attn: UFP, Building 2, Suite 295, 5500 Amelia Earhart Drive, Salt Lake City, UT 84116. You may also fax comments to (801) 517-1021 or submit comments electronically to cleanwater/wo_caet-slc@fs.fed.us.

FOR FURTHER INFORMATION CONTACT: Eric Janes, Rangelands, Soil and Water Group, Bureau of Land Management, Department of the Interior or Karen Solari, Watershed and Air Management Staff, Forest Service, Department of Agriculture at (801) 517-1037.

SUPPLEMENTARY INFORMATION: The four public meetings and the four Tribal meetings will be held at the locations and times listed in the following table:

Date | City | Location | Time
Tuesday, March 7 | Portland, OR | Oregon Convention Center, 777 NE Martin Luther King Jr. Blvd | Tribal meeting 1 p.m.-4 p.m.; public meeting 6 p.m.-9 p.m.
Thursday, March 9 | Milwaukee, WI | Hyatt Regency Milwaukee, 333 West Kilbourn Avenue | Tribal meeting 1 p.m.-4 p.m.; public meeting 6 p.m.-9 p.m.
Tuesday, March 14 | Atlanta, GA | Cobb Galleria Center, Two Galleria Parkway | Tribal meeting 1 p.m.-4 p.m.; public meeting 6 p.m.-9 p.m.
Thursday, March 16 | Denver, CO | Colorado Convention Center, 700 14th Street | Tribal meeting 1 p.m.-4 p.m.; public meeting 6 p.m.-9 p.m.

Dated: February 15, 2000.
Hilda Diaz-Soltero,
Associate Chief for Natural Resources.

[FR Doc. 00-4114 Filed 2-18-00; 8:45 am]

BILLING CODE 3410-11-P